DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Limits on Application of Take Prohibitions.

Form Number(s): None.

OMB Approval Number: 0648-0399.

Type of Request: Regular submission.

Burden Hours: 1,705.

Number of Respondents: 301.

Average Hours per Response: Plans, 12 hours; and annual reports, 2 hours.

Needs and Uses: In accordance with Section 4(d) of the Endangered Species Act (ESA), NOAA promulgates regulations that would prohibit “take” (e.g., harassment or harm) of threatened salmonids. These regulations identify conservation-oriented programs or circumstances in which the ESA's take prohibitions would not apply. States, local governments, and other entities may submit information to demonstrate that a program qualifies to be within those specified programs or circumstances (and therefore would not be subject to the prohibitions).

Affected Public: State, Local or tribal government; business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 4, 2006.
Gwellnar Banks,
Management Analyst, Office of the Chief Information Officer.

[FR Doc. E6-7070 Filed 5-9-06; 8:45 am]

BILLING CODE 3510-22-P